DEPARTMENT OF THE INTERIOR

Fish and Wildlife Service

Final Preassessment Screen for the Chino and Tyrone Mines, Grant County, New Mexico and the Morenci Mine, Graham County, Arizona

AGENCY: Fish and Wildlife Service, Interior.

ACTION: Notice of availability.

SUMMARY: The Department of the Interior, through the U.S. Fish and Wildlife Service, has conducted a preliminary screen of existing data and literature pertaining to injuries to natural resources from releases of hazardous chemicals from three large open-pit copper mines in southwestern New Mexico and southeastern Arizona (the Phelps Dodge Chino, Tyrone, and Morenci mines). Information available to the Department has resulted in a determination that there is a reasonable probability of making a successful claim for natural resource injuries. This determination, pursuant to the Comprehensive Environmental Response, Compensation, and Liability Act, (42 U.S.C. 9607, and Departmental regulations found at 43 CFR part 11), is memorialized in the document entitled “Final Preassessement Screen for the Chino, Tyrone, and Morenci Mine Sites, Grant County, New Mexico and Graham County, Arizona.”

DATES: Documents and other information submitted with the determinations are available for review, subject to the requirements of the Privacy Act and Freedom of Information Act, by any party who submits a written request for a copy of such documents by October 14, 2003.

ADDRESSES: Copies of the preassessment screen are available on the Internet at http://ifw2es.fws.gov/library, or may be requested from the Service at U.S. Fish and Wildlife Service, 2105 Osuna, NE, Albuquerque, New Mexico 87113, (505) 346-2525 or U.S. Fish and Wildlife Service, P.O. Box 1306, Room 4102, Albuquerque, New Mexico 87103, (505) 248-6648.

FOR FURTHER INFORMATION CONTACT: Karen Cathey, U.S. Fish and Wildlife Service, Ecological Services, Division of Habitat Conservation/Environmental Contaminants, P.O. Box 1306, Room 4102, Albuquerque, New Mexico 87103, (505) 248-6648.

SUPPLEMENTARY INFORMATION:

Background

Among the mines within a 500 mi² region of Southwestern New Mexico and Southeastern Arizona (Gila Region), the Phelps Dodge Corporation Chino, Tyrone, and Morenci open-pit copper mines are among the largest. Several ephemeral streams have been impacted by downstream releases, and portions of the Gila and San Francisco Rivers and their tributaries (bordered by the Gila and Apache National Forests) have been affected by high concentration metal pulses. Four species listed under the Endangered Species Act (spikedace, loach minnow, southwestern willow flycatcher, and Chiricahua leopard frog) frequent the affected areas, and resources under the management of the Bureau of Indian Affairs and Bureau of Land Management may have been impacted.

In September and October 2000, numerous dead birds were discovered at the Phelps Dodge Chino and Tyrone Mines in New Mexico, and the Morenci Mine in Arizona. The discovery of these dead birds (with a strong causal link to death by acid and metal poisoning), and the completion of an ecological risk assessment at an area impacted by historical copper smelter emissions (with direct evidence of injury to Department of the Interior trust resources), requires that the Department move forward with assessment of further injuries immediately. The Department has contacted the parties potentially responsible for releases of hazardous materials and invited them to participate in the assessment of injuries. Should evaluation of data indicate further extensive assessment studies are necessary, an assessment plan will be published and public comments solicited.

The preassessment screen indicates there are multiple methods that could be used in the of valuation of damages, including one method called “contingent valuation.” While this method is evaluated in the document, it is not likely that the Department would use the contingent valuation method because it depends heavily on subjective opinions in its analysis. More likely, once extent of injuries are determined, the Department would use one of the other methods of damage determination: Examples of such restoration project(s) would be where the responsible party conducts the implementation of the restoration project with Trustee oversight and no determination of specific monetary damages are made, or where the Trustees perform restoration projects funded by responsible parties.

Bryan Arroyo,
Acting Regional Director, Southwest Region, Albuquerque, New Mexico, Authorized Official, Department of the Interior.

[FR Doc. 03-21866 Filed 8-26-03; 8:45 am]

BILLING CODE 4510-55-P